CONSUMER PRODUCT SAFETY COMMISSION

16 CFR Part 1420

[CPSC Docket No. 2017-0032]

Amendment to Standard for All-Terrain Vehicles

Correction

In Rule document 2024-01309 beginning on page 4188 in the issue of Tuesday, January 23, 2024, make the following correction:

§ 1420.3 [Corrected]

On page 4195, in the third column, in the 8th and 9th lines, the heading “§ 1420.1 Requirements for four-wheel ATV's” should read “§ 1420.3 Requirements for four-wheel ATV's”.

[FR Doc. C1-2024-01309 Filed 1-29-24; 8:45 am]

BILLING CODE 0099-10-D